DEPARTMENT OF AGRICULTURE

Grain Inspection, Packers and Stockyards Administration

Advisory Committee Meeting

Pursuant to the provisions of section 10(a)(2) of the Federal Advisory Committee Act (Pub. L. 92-463), notice is hereby given of the following committee meeting:

Name: Grain Inspection Advisory Committee.

Date: October 23-24, 2002.

Place: Iberville Suites, 910 Iberville Street, New Orleans, Louisiana 70112.

Time: 7:30 am—5:00 pm on October 23, and 7:30am—12:00 (Noon) on October 24, 2002.

Purpose: To provide advice to the Administrator of the Grain Inspection, Packers and Stockyards Administration (GIPSA) with respect to the implementation of the U.S. Grain Standards Act (7 U.S.C. 71 et seq.).

The agenda will include a review and discussion of GIPSA's financial status and of the future proposal for a new fee structure; and updates on FGIS' program plans; on the Artificial Neural Networking (ANN) pilot program, and process verification proposal. Discussions also will be provided on future inspection equipment alternatives, wheat end-use functionality research, FGIS' Central Monitoring Laboratory, recent and planned inspection procedural changes, and on any other related issues concerning the delivery of grain inspection and weighing services to American agriculture.

Public participation will be limited to written statements, unless permission is received from the Committee Chairman to orally address the Committee. Persons, other than members, who wish to address the Committee or submit written statements before or after the meeting, should contact the Administrator, GIPSA, U.S. Department of Agriculture, 1400 Independence Avenue, SW, STOP 3601, Washington, DC 20250-3601, telephone (202) 720-0219 or FAX (202) 205-9237.

The meeting will be open to the public. Persons with disabilities who require alternative means of communication of program information or related accommodations should contact Terri Henry, telephone (202) 720-0219 or FAX (202) 205-9237.

Dated: October 10, 2002.
Donna Reifschneider,
Administrator.

[FR Doc. 02-26399 Filed 10-16-02; 8:45 am]

BILLING CODE 3410-EN-P